DEPARTMENT OF TRANSPORTATION

Federal Aviation Administration

14 CFR Part 39

[Docket No. 2000-NE-37-AD; Amendment 39-12031; AD 2000-24-24]

RIN 2120-AA64

Airworthiness Directives; Rolls-Royce plc RB211 Trent 768-60, Trent 772-60, and Trent 772B-60 Series Turbofan Engines

AGENCY: Federal Aviation Administration, DOT.

ACTION: Final rule; request for comments.

SUMMARY: This amendment adopts a new airworthiness directive (AD) that is applicable to Rolls-Royce plc RB211 Trent 768-60, Trent 772-60, and Trent 772B-60 series turbofan engines having common nozzle assembly part number (P/N) FK16544 or FK16558. This action requires initial and repetitive visual inspections of the inner and outer skins of the common nozzle assembly and specifies allowable limits for cracks, loose rivets, and missing rivets. This action also requires repair if the common nozzle assembly damage exceeds allowable limits. This amendment is prompted by two reports of in-flight inner skin detachment. The actions specified in this AD are intended to detect cracks, loose rivets, and missing rivets, which could result in inner skin detachment, release of common nozzle assembly debris from the engine, and possible damage to the airplane control surfaces.

DATES: Effective January 12, 2001. The incorporation by reference of certain publications listed in the regulations is approved by the Director of the Federal Register as of January 12, 2001.

Comments for inclusion in the Rules Docket must be received on or before February 12, 2001.

ADDRESSES: Submit comments to the Federal Aviation Administration (FAA), New England Region, Office of the Regional Counsel, Attention: Rules Docket No. 2000-NE-37-AD, 12 New England Executive Park, Burlington, MA 01803-5299. Comments may also be sent via the Internet using the following address: “9-ane-adcomment@faa.gov”. Comments sent via the Internet must contain the docket number in the subject line.

The service information referenced in this AD may be obtained from Rolls-Royce plc, PO Box 31, Derby, England; telephone: International Access Code 011, Country Code 44, 1332-249428, fax International Access Code 011, Country Code 44, 1332-249223. This information may be examined at the FAA, New England Region, Office of the Regional Counsel, 12 New England Executive Park, Burlington, MA; or at the Office of the Federal Register, 800 North Capitol Street, NW., suite 700, Washington, DC.

FOR FURTHER INFORMATION CONTACT: Keith Mead, Aerospace Engineer, Engine Certification Office, FAA, Engine and Propeller Directorate, 12 New England Executive Park, Burlington, MA 01803-5299; telephone: 781-238-7744; fax: 781-238-7199.

SUPPLEMENTARY INFORMATION: The Civil Aviation Authority (CAA), which is the airworthiness authority for the United Kingdom (UK), recently notified the Federal Aviation Administration (FAA) that an unsafe condition may exist on Rolls-Royce plc (RR) RB211 Trent 768-60, Trent 772-60, and Trent 772B-60 series turbofan engines having common nozzle assembly P/N FK16544 or FK16558. The CAA received reports of cracking and rivet loss on the outer and inner skin of the common nozzle assembly, with two reports of inner skin detachment. Rolls-Royce has determined that cracks and detachment of inner skin, and cracks of outer skin occurred due to a combination of missing rivets, loose rivets, and high stress levels on common nozzle assemblies with a high number of flight cycles. This condition, if not corrected, could result in inner skin detachment, release of common nozzle assembly debris from the engine, and possible damage to the airplane control surfaces. The compliance times specified in this AD are based on Rolls-Royce service bulletin criteria and CAA recommendations.

Manufacturer's Service Information

RR has issued Mandatory Service Bulletin (MSB) No. RB.211-78-C931, Revision 1, dated June 13, 2000, that specifies procedures for initial visual inspections of inner and outer skin, including allowable limits, for cracks, missing rivets, and loose rivets. The MSB also specifies repair for common nozzle assemblies that are out of limits. The MSB also specifies on common nozzle assemblies with more than 1,500 cycles-since-new, initial visual inspections for cracks in inner and outer skins, missing rivets, loose rivets not later than 500 flight hours after release of AD, and repetitive inspections within 500 flight hours since the last inspection. The CAA classified this MSB as mandatory and issued airworthiness directive (AD) 005-06-2000 in order to ensure the airworthiness of these engines in the UK.

Bilateral Airworthiness Agreement

This engine model is manufactured in the UK and is type certificated for operation in the United States under the provisions of section 21.29 of the Federal Aviation Regulations (14 CFR 21.29) and the applicable bilateral airworthiness agreement. As required by this bilateral airworthiness agreement, the CAA has kept the FAA informed of the situation described above. The FAA has examined the findings of the CAA, reviewed all available information, and determined that AD action is necessary for engines of this type design that could be used on airplanes certificated for operation in the United States.

Required Actions

Since an unsafe condition has been identified that is likely to exist or develop on other engines of the same type design that could be used on airplanes registered in the United States, this AD requires initial and repetitive in-service visual inspections of the common nozzle assembly to detect cracks, missing rivets, and loose rivets, including allowable acceptance limits. This AD also requires repair for common nozzle assemblies that are out of limits. The actions must be done in accordance with the MSB described previously.

Immediate Adoption

A situation exists that allows the immediate adoption of this regulation. Since there are currently no domestic operators of this engine model, notice and opportunity for prior public comment are unnecessary.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this notice must submit a self-addressed, stamped postcard on which the following statement is made: “Comments to Docket Number 2000-NE-37-AD.” The postcard will be date stamped and returned to the commenter.

Regulatory Impact

This proposal does not have federalism implications, as defined in Executive Order (EO) 13132, because it would not have substantial direct effect on the States, on the relationship between the national government and the States, or on the distribution of power and responsibilities among the various levels of government. Accordingly, the FAA has not consulted with state authorities prior to publication of this proposal.

The FAA has determined that this regulation is an emergency regulation that must be issued immediately to correct an unsafe condition in aircraft, and is not a “significant regulatory action” under EO 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-24-24 Rolls-Royce plc: Amendment 39-12031. Docket 2000-NE-37-AD.

Applicability: This airworthiness directive (AD) is applicable to Rolls-Royce plc (RR) RB211 Trent 768-60, Trent 772-60, and Trent 772B-60 series turbofan engines having common nozzle assembly part number (P/N) FK16544 or FK16558 installed. These engines are installed on but not limited to Airbus A330-341 and A330-342 series airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance

Required as indicated, unless accomplished previously.

To detect cracking, loose rivets, and missing rivets on common nozzle assembly P/N FK16544 or FK16558, which could result in inner skin detachment, release of exit nozzle debris from the engine, and possible damage to the airplane control surfaces, do the following:

Initial Inspection

(a) Visually inspect all common nozzle assemblies for cracks, missing rivets, and loose rivets, within 500 flight hours after the effective date of this AD, and disposition in accordance with Accomplishment Instructions, Paragraph 3A of RR Mandatory Service Bulletin (MSB) No. RB.211-78-C931, Revision 1, dated June 13, 2000.

Repetitive Inspections

(b) Thereafter, on common nozzle assemblies that have greater than 1,500 cycles-since-new, do repetitive visual inspection for cracks, loose rivets, and missing rivets, within 500 flight hours since the last inspection, and disposition in accordance with Accomplishment Instructions, Paragraph 3A of RR MSB No. RB.211-78-C931, Revision 1, dated June 13, 2000.

Alternative Methods of Compliance

(c) An alternative method of compliance or adjustment of the compliance time that provides an acceptable level of safety may be used if approved by the Manager, Engine Certification Office (ECO). Operators shall submit their requests through an appropriate FAA Principal Maintenance Inspector, who may add comments and then send it to the Manager, ECO.

Note 2: Information concerning the existence of approved alternative methods of compliance with this AD, if any, may be obtained from the ECO.

Special Flight Permits

(d) Special flight permits may be issued in accordance with sections 21.197 and 21.199 of the Federal Aviation Regulations (14 CFR 21.197 and 21.199) to operate the airplane to a location where the requirements of this AD can be accomplished.

Incorporation by Reference

(e) The actions required by this AD must be performed in accordance with the Accomplishment Instructions of RR MSB No. RB.211-78-C931, Revision 1, dated June 13, 2000. This incorporation by reference was approved by the Director of the Federal Register in accordance with 5 U.S.C. 552(a) and 1 CFR part 51. Copies may be obtained from Rolls-Royce plc, PO Box 31, Derby, England; telephone: International Access Code 011, Country Code 44, 1332-249428, fax: International Access Code 011, Country Code 44, 1332-249223. Copies may be inspected at the FAA, New England Region, Office of the Regional Counsel, 12 New England Executive Park, Burlington, MA; or at the Office of the Federal Register, 800 North Capitol Street, NW, suite 700, Washington, DC.

Effective Date of This AD

(f) This amendment becomes effective on January 12, 2001.

Issued in Burlington, Massachusetts, on November 28, 2000.
Mark C. Fulmer,
Acting Manager, Engine and Propeller Directorate, Aircraft Certification Service.

[FR Doc. 00-31113 Filed 12-12-00; 8:45 am]

BILLING CODE 4910-13-U